DEPARTMENT OF COMMERCE

National Oceanic and Atmospheric Administration

[I.D. 010406A]

International Whaling Commission; Intersessional Revised Management Scheme Working Group Meeting; Nominations

AGENCY: National Marine Fisheries Service (NMFS), National Oceanic and Atmospheric Administration (NOAA), Commerce.

ACTION: Request for nominations.

SUMMARY: This notice is a call for nominees for one non-federal position to the U.S. Delegation to the February 28 - March 2, 2006, International Whaling Commission (IWC) intersessional Revised Management Scheme (RMS) Working Group meeting.

DATES: All nominations for the U.S. Delegation to the IWC intersessional RMS Working Group meeting must be received by January 31, 2006.

ADDRESSES: All nominations for the U.S. Delegation to the IWC intersessional RMS Working Group meeting should be addressed to Dr. Bill Hogarth, Acting U.S. Commissioner to the IWC, and sent via post to: Cheri McCarty, National Marine Fisheries Service, Office of International Affairs, 1315 East-West Highway, SSMC3 Room 12603, Silver Spring, MD 20910. Prospective Congressional advisors to the delegation should contact the Department of State directly.

FOR FURTHER INFORMATION CONTACT: Cheri McCarty, 301-713-9090, Ext. 183.

SUPPLEMENTARY INFORMATION: The Secretary of Commerce is charged with the responsibility of discharging the obligations of the United States under the International Convention for the Regulation of Whaling, 1946. The U.S. Commissioner has primary responsibility for the preparation and negotiation of U.S. positions on international issues concerning whaling and for all matters involving the IWC. He is staffed by the Department of Commerce and assisted by the Department of State, the Department of the Interior, the Marine Mammal Commission, and by other agencies. The non-federal representative selected as a result of this nomination process is responsible for providing input and recommendations to the U.S. IWC Commissioner representing the positions of non-governmental organizations.

The intersessional RMS Working Group meeting will be held February 28 - March 2, 2006, in Cambridge, UK, at the University Arms Hotel.

Dated: January 5, 2006.
William T. Hogarth,
Assistant Administrator for Fisheries, National Marine Fisheries Service.

[FR Doc. E6-162 Filed 1-10-06; 8:45 am]

BILLING CODE 3510-22-S